DEPARTMENT OF HOMELAND SECURITY

Federal Emergency Management Agency

[Docket ID FEMA-2023-0002; Internal Agency Docket No. FEMA-B-2341]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Alabama:
Limestone | Unincorporated areas of Limestone County (22-04-5392P). | The Honorable Collin Daly, Chair, Limestone County Commission, 310 West Washington Street, Athens, AL 35611. | Limestone County, Engineering Department, 310 West Washington Street, Athens, AL 35611. | https://msc.fema.gov/portal/advanceSearch. | Jun. 21, 2023 | 010307
St. Clair | Unincorporated areas of St. Clair County (23-04-0305P). | The Honorable Stan Bateman, Chair, St. Clair County, Board of Commissioners, 165 5th Avenue, Ashville, AL 35953. | St. Clair County, Highway Department, 31588 U.S. Highway 231, Ashville, AL 35953. | https://msc.fema.gov/portal/advanceSearch. | Aug. 11, 2023 | 010290
Colorado:
Arapahoe | City of Centennial (21-08-0505P). | The Honorable Stephanie Piko, Mayor, City of Centennial, 13133 East Arapahoe Road, Centennial, CO 80112. | Southeast Metro, Stormwater Authority, 7437 South Fairplay Street, Centennial, CO 80112. | https://msc.fema.gov/portal/advanceSearch. | Jul. 24, 2023 | 080315
Arapahoe | City of Greenwood Village (21-08-0505P). | The Honorable George Lantz, Mayor, City of Greenwood Village, 6060 South Quebec Street, Greenwood Village, CO 80111. | City Hall, 6060 South Quebec Street, Greenwood Village, CO 80111. | https://msc.fema.gov/portal/advanceSearch. | Jul. 24, 2023 | 080195
Arapahoe | Unincorporated areas of Arapahoe County (21-08-0505P). | The Honorable Carrie Warren-Gully, Chair, Arapahoe County, Board of Commissioners, 5334 South Prince Street, Littleton, CO 80120. | Arapahoe County, Public Works and Development Department, 6924 South Lima Street, Littleton, CO 80112. | https://msc.fema.gov/portal/advanceSearch. | Jul. 24, 2023 | 080011
Weld | Town of Johnstown (22-08-0435P). | Matt LeCerf, Town of Johnstown Manager, P.O. Box 609, Johnstown, CO 80534. | Town Hall, 450 South Parish Avenue, Johnstown, CO 80534. | https://msc.fema.gov/portal/advanceSearch. | Jul. 28, 2023 | 080250
Weld | Unincorporated areas of Weld County (22-08-0435P). | Scott James, Chair, Weld County, Board of Commissioners, P.O. Box 758, Greely, CO 80631. | Weld County, Commissioner's Office, 1150 O Street, Greely, CO 80632. | https://msc.fema.gov/portal/advanceSearch. | Jul. 28, 2023 | 080266
Delaware:
New Castle | Unincorporated areas of New Castle County (22-03-0971P). | The Honorable Matthew Meyer, New Castle County, Executive, 87 Read's Way, New Castle, DE 19720. | New Castle County, Government Center, 87 Read's Way, New Castle, DE 19720. | https://msc.fema.gov/portal/advanceSearch. | Aug. 10, 2023 | 105085
Florida:
Charlotte | City of Punta Gorda (22-04-4836P). | The Honorable Lynne Matthews, Mayor, City of Punta Gorda, 326 West Marion Avenue, Punta Gorda, FL 33950. | Building Department, 326 West Marion Avenue, Punta Gorda, FL 33950. | https://msc.fema.gov/portal/advanceSearch. | Jul. 11, 2023 | 120062
Charlotte | Unincorporated areas of Charlotte County (22-04-4836P). | Bill Truex, Chair, Charlotte County, Board of Commissioners, 18500 Murdock Circle, Suite 536, Port Charlotte, FL 33948. | Charlotte County, E.J. Carlson Community Development Building, 18400 Murdock Circle, Port Charlotte, FL 33948. | https://msc.fema.gov/portal/advanceSearch. | Jul. 11, 2023 | 120061
Monroe | Village of Islamorada (23-04-0726P). | The Honorable Joseph Buddy Pinder III, Mayor, Village of Islamorada, 86800 Overseas Highway, Islamorada, FL 33036. | Building Department, 86800 Overseas Highway, Islamorada, FL 33036. | https://msc.fema.gov/portal/advanceSearch. | Jul. 10, 2023 | 120424
Osceola | City of St. Cloud (22-04-0527P). | The Honorable Nathan Blackwell, Mayor, City of St. Cloud, 1300 9th Street, St. Cloud, FL 34769. | City Hall, 1300 9th Street, St. Cloud, FL 34769. | https://msc.fema.gov/portal/advanceSearch. | Jul. 7, 2023 | 120191
Osceola | Unincorporated areas of Osceola County (22-04-0527P). | Donald Fisher, Osceola County Manager, 1 Courthouse Square, Suite 4700, Kissimmee, FL 34741. | Osceola County, Public Works Department, 1 Courthouse Square, Suite 3100, Kissimmee, FL 34741. | https://msc.fema.gov/portal/advanceSearch. | Jul. 7, 2023 | 120189
Palm Beach | Village of Tequesta (22-04-0040P). | The Honorable Molly Young, Mayor, Village of Tequesta, 345 Tequesta Drive, Tequesta, FL 33469. | Building Department, 345 Tequesta Drive, Tequesta, FL 33469. | https://msc.fema.gov/portal/advanceSearch. | Jul. 10, 2023 | 120228
Kentucky: Jefferson | Metropolitan Government of Louisville and Jefferson County (23-04-2013P). | The Honorable Craig Greenberg, Mayor, Metropolitan Government of, Louisville and Jefferson County, 527 West Jefferson Street, Louisville, KY 40202. | Louisville/Jefferson County Metropolitan Sewer District, 700 West Liberty Street, Louisville, KY 40203. | https://msc.fema.gov/portal/advanceSearch. | Aug. 10, 2023 | 105085
Maryland: Frederick | Unincorporated areas of Frederick County (23-03-0342P). | The Honorable Jessica Fitzwater, Frederick County Executive, 12 East Church Street, Frederick, MD 21701. | Frederick County, Division of Planning and Permitting, 30 North Market Street, Frederick, MD 21701. | https://msc.fema.gov/portal/advanceSearch. | Aug. 4, 2023 | 240027
Massachusetts:
Plymouth | Town of Marshfield (22-01-0998P). | The Honorable Stephen Darcy, Chair, Town of Marshfield Select Board, 870 Moraine Street, Marshfield, MA 02050. | Building Department, 870 Moraine Street, Marshfield, MA 02050. | https://msc.fema.gov/portal/advanceSearch. | Aug. 9, 2023 | 240027
Suffolk | City of Boston (22-01-0360P). | The Honorable Michelle Wu, Mayor, City of Boston, 1 City Hall Square, Suite 500, Boston, MA 02201. | City Hall, 1 City Hall Square, Suite 500, Boston, MA 02201. | https://msc.fema.gov/portal/advanceSearch. | Aug. 25, 2023 | 250286
Michigan:
Genesee | City of Flint (22-05-1981P). | The Honorable Sheldon Neeley, Mayor, City of Flint, 1101 South Saginaw Street, Flint, MI 48502. | Department of Public Works, 1101 South Saginaw Street, Flint, MI 48502. | https://msc.fema.gov/portal/advanceSearch. | Jul. 10, 2023 | 260076
Genesee | Township of Flint (22-05-1981P). | Karyn Miller, Township of Flint Supervisor, 1490 South Dye Road, Flint, MI 48532. | Building Department, 1490 South Dye Road, Flint, MI 48532. | https://msc.fema.gov/portal/advanceSearch. | Jul. 10, 2023 | 260395
Genesee | Township of Genesee (22-05-1981P). | Daniel Eashoo, Township of Genesee, Supervisor, 7244 North Genesee Road, Genesee, MI 48437. | Department of Public Works, 7244 North Genesee Road, Genesee, MI 48437. | https://msc.fema.gov/portal/advanceSearch. | Jul. 10, 2023 | 260078
Montana: Gallatin | City of Bozeman (22-08-0557P). | Jeff Mihelich, Manager, City of Bozeman, P.O. Box 1230, Bozeman, MT 59771. | Engineering Department, 20 East Olive Street, 1st Floor, Bozeman, MT 59715. | https://msc.fema.gov/portal/advanceSearch. | Jul. 26, 2023 | 300028
New Mexico: Dona Ana | City of Las Cruces (22-06-0707P). | Ifo Pili, Manager, City of Las Cruces, 700 North Main Street, Suite 3600, Las Cruces, NM 88001. | City Hall, 700 North Main Street, Suite 1100, Las Cruces, NM 88001. | https://msc.fema.gov/portal/advanceSearch. | Aug. 14, 2023 | 355332
North Carolina: Moore | Village of Whispering Pines (22-04-5068P). | The Honorable Glenn Bernhard, Mayor, Village of Whispering Pines, 10 Pine Ridge Drive, Whispering Pines, NC 28327. | Moore County, Planning and Inspections Department, 1048 Carriage Oaks Drive, Carthage, NC 28327. | https://msc.fema.gov/port,al/advanceSearch. | Aug. 10, 2023 | 370464
South Carolina:
Jasper | City of Hardeeville (22-04-1790P). | Michael J. Czymbor, Manager, City of Hardeeville, 205 Main Street, Hardeeville, SC 29927. | City Hall, 205 Main Street, Hardeeville, SC 29927. | https://msc.fema.gov/port,al/advanceSearch. | Jun. 29, 2023 | 450113
Jasper | Unincorporated areas of Jasper County (22-04-1790P). | The Honorable Barbara Clark, Vice Chair, Jasper County Council, 358 3rd Avenue, Ridgeland, SC 29936. | Jasper County, Planning and Building Services Department, 358 3rd Avenue, Ridgeland, SC 29936. | https://msc.fema.gov/port,al/advanceSearch. | Jun. 29, 2023 | 450112
Tennessee:
Hamilton | City of Collegedale (22-04-3380P). | The Honorable Morty Lloyd, Mayor, City of Collegedale, 4910 Swinyar Drive, Collegedale, TN 37315. | Public Works Department, 9751 Sanborn Drive, Collegedale, TN 37315. | https://msc.fema.gov/port,al/advanceSearch. | Jul. 24, 2023 | 475422
Hamilton | Unincorporated areas of Hamilton County (22-04-3380P). | The Honorable Weston Wamp, Mayor, Hamilton County, 625 Georgia Avenue, Collegedale, TN 37402. | Hamilton County, Public Works Division, 4005 Cromwell Road, Chattanooga, TN 37421. | https://msc.fema.gov/port,al/advanceSearch. | Jul. 24, 2023 | 470071
Texas:
Bexar | City of Helotes (21-06-3308P). | The Honorable Rich Whitehead, Mayor, City of Helotes, P.O. Box 507, Helotes, TX 78023. | City Hall, 12951 Bandera Road, Helotes, TX 78023. | https://msc.fema.gov/portal/advanceSearch. | Jul. 10, 2023 | 481643
Collin | City of Josephine (23-06-0194P). | The Honorable Jason Turney, Mayor, City of Josephine, P.O. Box 99, Josephine, TX 75164. | City Hall, 201 South Main Street, Josephine, TX 75173. | https://msc.fema.gov/portal/advanceSearch. | Aug. 18, 2023 | 480756
Collin | Unincorporated areas of Collin County (23-06-0194P). | The Honorable Chris Hill, Collin County Judge, 2300 Bloomdale Road, Suite 4192, McKinney, TX 75071. | Collin County, Engineering Department, 4690 Community Avenue, Suite 200, McKinney, TX 75071. | https://msc.fema.gov/portal/advanceSearch. | Aug. 18, 2023 | 480130
Dallas | City of Coppell (22-06-1246P). | The Honorable Wes Mays, Mayor, City of Coppell, P.O. Box 9478, Coppell, TX 75019. | Department of Public Works, 265 East Parkway Boulevard, Coppell, TX 75019. | https://msc.fema.gov/portal/advanceSearch. | Jul. 10, 2023 | 480170
Tarrant | City of Grapevine (22-06-1246P). | The Honorable William D. Tate, Mayor, City of Grapevine, P.O. Box 95104, Grapevine, TX 76099. | City Hall, 200 South Main Street, Grapevine, TX 76051. | https://msc.fema.gov/portal/advanceSearch. | Jul. 10, 2023 | 480598
Denton | City of Denton (22-06-2546P). | The Honorable Gerard Hudspeth, Mayor, City of Denton, 215 East McKinney Street, Denton, TX 76201. | Development Services Department, 401 North Elm Street, Denton, TX 76201. | https://msc.fema.gov/portal/advanceSearch. | Jul. 31, 2023 | 480194
Denton | City of Denton (23-06-0063P). | The Honorable Gerard Hudspeth, Mayor, City of Denton, 215 East McKinney Street, Denton, TX 76201. | Capital Projects/Engineering Department, 401 North Elm Street, Denton, TX 76201. | https://msc.fema.gov/portal/advanceSearch. | Jul. 31, 2023 | 480194
Denton | City of Fort Worth (22-06-1732P). | The Honorable Mattie Parker, Mayor, City of Fort Worth, 200 Texas Street, Fort Worth, TX 76102. | City Hall, 200 Texas Street, Fort Worth, TX 76102. | https://msc.fema.gov/portal/advanceSearch. | Aug. 7, 2023 | 480596
Denton | Unincorporated areas of Denton County (23-06-0063P). | The Honorable Andy Eads, Denton County Judge, 1 Courthouse Drive, Suite 3100, Denton, TX 76208. | Denton County, Development Services Department, 3900 Morse Street, Denton, TX 76208. | https://msc.fema.gov/portal/advanceSearch. | Jul. 31, 2023 | 480774
Ellis | City of Ennis (22-06-2915P). | The Honorable Angeline L. Juenemann, Mayor, City of Ennis, 115 West Brown Street, Ennis, TX 75119. | Planning, Development and Inspection Department, 108 West Knox Street, Ennis, TX 75119. | https://msc.fema.gov/portal/advanceSearch. | Aug. 7, 2023 | 480207
Ellis | City of Midlothian (22-06-1316P). | Chris Dick, Manager, City of Midlothian, 104 West Avenue E, Midlothian, TX 76065. | City Hall, 104 West Avenue E, Midlothian, TX 76065. | https://msc.fema.gov/portal/advanceSearch. | Aug. 4, 2023 | 480801
Ellis | City of Waxahachie (22-06-1316P). | Michael Scott, Manager, City of Waxahachie, 401 South Rogers Street, Waxahachie, TX 75165. | City Hall, 401 South Rogers Street, Waxahachie, TX 75165. | https://msc.fema.gov/portal/advanceSearch. | Aug. 4, 2023 | 480211
Ellis | Unincorporated areas of Ellis County (22-06-1316P). | The Honorable Todd Little, Ellis County Judge, 101 West Main Street, Waxahachie, TX 75165. | Ellis County, District Court House, 109 South Jackson Street, Waxahachie, TX 75165. | https://msc.fema.gov/portal/advanceSearch. | Aug. 4, 2023 | 480798
Harris | Unincorporated areas of Harris County (22-06-0678P). | The Honorable Lina Hidalgo, Harris County Judge, 1001 Preston Street, Suite 911, Houston, TX 77002. | Harris County, Permits Office, 1111 Fannin Street, 8th Floor, Houston, TX 77002. | https://msc.fema.gov/portal/advanceSearch. | Jul. 24, 2023 | 480287
Harris | Unincorporated areas of Harris County (22-06-0855P). | The Honorable Lina Hidalgo, Harris County Judge, 1001 Preston Street, Suite 911, Houston, TX 77002. | Harris County, Permits Office, 1111 Fannin Street, 8th Floor, Houston, TX 77002. | https://msc.fema.gov/portal/advanceSearch. | Jul. 3, 2023 | 480287
Harris. | Unincorporated areas of Harris County (22-06-2197P). | The Honorable Lina Hidalgo, Harris County Judge, 1001 Preston Street, Suite 911, Houston, TX 77002. | Harris County, Permits Office, 1111 Fannin Street, 8th Floor, Houston, TX 77002. | https://msc.fema.gov/portal/advanceSearch. | Jul. 24, 2023 | 480287
Taylor | City of Abilene (22-06-3030P). | The Honorable Anthony Williams, Mayor, City of Abilene, P.O. Box 60, Abilene, TX 79604. | City Hall, 555 Walnut Street, Abilene, TX 79601. | https://msc.fema.gov/portal/advanceSearch. | Aug. 11, 2023 | 485450
Virginia: Loudoun | Unincorporated areas of Loudoun County (22-03-0882P). | Tim Hemstreet, Loudoun County Administrator, P.O. Box 7000, Leesburg, VA 20175. | Loudoun County, Government Center, 1 Harrison Street Southeast, 3rd Floor, MSC #60, Leesburg, VA 20175. | https://msc.fema.gov/portal/advanceSearch. | Jul. 31, 2023 | 510090

[FR Doc. 2023-11155 Filed 5-24-23; 8:45 am]

BILLING CODE 9110-12-P